ENVIRONMENTAL PROTECTION AGENCY

[ER-FRL-6649-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

Summary of Rating Definitions Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or section 309 review, and thus should be formally revised and made available for public comment in a supplemental or revised draft EIS.

On the basis of the potential significant impacts involved, this proposal could be a candidate for referral to the CEQ.

Draft EIS

ERP No. D-AFS-F65045-MN

Rating EC1, Virginia Forest Management Project Area, Resource Management Activities on 101,000 Acres of Federal Land, Implementation, Superior National Forest, Eastern Region, St. Louis County, MN.

Summary: EPA expressed environmental concerns with potential impacts from mining activities and requested that more specific information on mitigation and monitoring be included in the final EIS.

ERP No. D-BLM-L65446-AK

Rating EO2, Alpine Satellite Development Plan, Construction and Operation of Five Oil Production Pads, Associated Well, Roads, Airstrips, Pipelines and Powerlines, Northeast Corner of the National Petroleum Reserve—Alaska, Colville River Delta, North Slope Borough, AK.

Summary: EPA expressed environmental objections with Alternatives A and C because of the potential for significant adverse impacts to environmental and subsistence resources and the users of the plan area. Neither alternative would be consistent with oil and gas lease stipulations in the 1998 NW NPR-A Record of Decision. In addition, the Draft EIS does not contain adequate information regarding other reasonable alternatives, such as the State of Alaska's proposed road to Nuiqsut, and additional mitigation for impacts if stipulations are excepted or amended. EPA recommends changes to the proposed alternative to address these issues and that the final EIS include mitigation measures and environmental safeguards to minimize significant adverse impacts.

ERP No. D-COE-K36138-AZ

Rating LO, EL Rio Antigua Feasibility Study, Ecosystem Restoration along the Rillito River, Pima County, AZ.

Summary: EPA supported the goals and objectives of the proposed El Rio Antiquo Restoration, and had no objections to the proposed project. EPA requested clarification on the recreation and parking improvements proposed as part of the project.

ERP No. D-HUD-C81018-NY

Rating EC2, Generic EIS—World Trade Center Memorial and Redevelopment Plan, To Remember, Rebuild and Renew what was lost on September 11, 2001, Construction in the Borough of Manhattan, New York County, NY.

Summary: EPA expressed environmental concerns regarding both the direct and cumulative impacts to air quality (NOX, ozone, and conformity with the SIP), and impacts to water quality (storm water discharge). Additional information and discussion to address these concerns should be included in the final EIS.

ERP No. DB-NOA-A91065-00

Rating LO, Proposed Rule to Implement Management Measures for the Reduction of Sea Turtle Bycatch and Bycatch Mortality in the Atlantic Pelagic Longline Fishery.

Summary: EPA has no objections to the proposed action.

ERP No. DS-BOP-K81025-CA

Rating LO, Fresno Federal Correctional Facility Development, Additional Information, Orange Cove, Fresno County, CA.

Summary: EPA supports the proposed alternative for the Fresno Correctional Facility in Fresno County. EPA has no objections to the proposed project.

Final EIS

ERP No. F-AFS-E65061-SC

Sumter National Forest Revised Land and Resource Management Plan, Implementation, Oconee, Chester, Fairfield, Laurens, Newberry, Union-Abbeville, Edgefield, Greenwood, McCormick and Saluda Counties, SC.

Summary: EPA continues to have environmental concerns about designation of watershed restoration areas and provided additional comments on strengthening forestwide standards and monitoring commitments to protect water quality.

ERP No. F-AFS-E65062-TN

Cherokee National Forest Revised Land and Resource Management Plan, Implementation, Carter, Cocke, Greene, Johnson, McMinn, Monroe, Polk, Sullivan and Unicoil, TN.

Summary: EPA continues to have environmental concerns about designation of source water protection areas and provided additional comments on strengthening forestwide standards to protect water quality.

ERP No. F-AFS-E65063-GA

Chattahoochee-Oconee National Forests Revised Land and Resource Management Plan, Implementation, several Counties, GA.

Summary: EPA continues to have environmental concerns about development of management plans for wild and scenic rivers and provided additional comments on strengthening forestwide standards to protect water quality.

ERP No. F-FHW-E40797-MS

Airport Parkway Extension, Improvements to MS-475 from I-20 to Old Brandon Road, U.S. Army COE Section 404 Permit, Rankin County, MS.

Summary: EPA has no objections to the proposed project. EPA does recommend that MDOT include a draft mitigation plan regarding wetland and stream impacts in the Record of Decision.

ERP No. F-FHW-K40224-CA

I-880/CA-92 Interchange Reconstruction, I-880 from Winton Avenue to Tennyson Road and CA-92 from Hesperian Boulevard to Santa Clara Street, Updated Information, Funding, City of Hayward, Alameda County, CA.

Summary: EPA continues to have environmental concerns with the proposed project regarding construction-related air quality impacts and the potential for environmental justice impacts. EPA recommends that the Federal Highway Administration (FHWA) develop a detailed construction emissions mitigation plan for adoption in the ROD and that FHWA elicit and consider the views of effected minority and low-income populations on the construction mitigation plan.

ERP No. F-IBR-K39079-CA

Programmatic EIS—Environmental Water Account Project, Water Management Strategy to Protect the At-Risk Native Delta-Dependent Fish Species and Water Supply Improvements, U.S. Fish and Wildlife Service Endangered Species Act Section 7 and U.S. Army Corps Section 10 Permits Issuance, CA.

Summary: EPA expressed continued environmental concerns with the project, including the need to strengthen the scientific basis for EWA actions, incorporate upcoming proposed facilities and operations, and address in more detail potential impacts to, and monitoring and protection of, water quality for drinking water and other uses. EPA recommended that these issues be addressed in a separate long-term EWA EIR/EIS, which is being prepared for release later this year.

ERP No. F-NRS-K36137-HI

Lahaina Watershed Flood Control Project, Flooding and Erosion Problems Reduction, U.S. Army COE Section 404 and NPDES Permits Issuance, Maui County, HI.

Summary: EPA has continuing environmental concerns regarding impacts to the near shore marine environment and water quality.

ERP No. FC-NOA-B91017-00

Atlantic Sea Scallop Fishery Management Plan (FMP), Amendment 10, Introduction of Spatial Management of Adult Scallops, Essential Fish Habitat (EFH), from the Gulf of Maine and Georges Banks to Cape Hatteras, NC.

Summary: EPA's previous issues were resolved, EPA has no objection to the action as proposed.

ERP No. FR-DOE-A09824-00

Hanford Site Solid (Radioactive and Hazardous) Waste Program, New Information on Waste Management Alternatives, Waste Management Practices Enhancement for Low-Level Radioactive Waste, Mixed Low-Level Radioactive Waste and Transuranic Waste, Richland, Benton County, WA.

Summary: EPA expressed environmental concerns with the characterization that affects from past and current activities result in irreversible and irretrievable impacts to groundwater and recommend that the record of decision clarify that groundwater impacts from the proposed project do not represent irreversible and irretrievable effects. EPA also recommended that additional analysis be conducted if T Plant is not included in the preferred alternative or implemented project.

ERP No. FS-AFS-K65226-00

Sierra Nevada Forest Plan Amendment, New Information on a Range of Alternatives for Amending Land and Resource Management Plans, Modoc, Lasser, Plumas, Tahoe, Eldorado, Sequoia, Stanislaus, Sierra, Inyo and Humboldt-Toiyabe National Forest and the Lake Tahoe Basin Management Unit, Several Counties, CA and NV.

Summary: EPA expressed continuing environmental objections to the proposed management plans on the basis of impacts to water quality and habitat, and the removal of mitigation measures to protect old-growth forest and dependent species.

Dated: March 30, 2004.
Ken Mittelholtz,
Environmental Protection Specialist, Office of Federal Activities.

[FR Doc. 04-7479 Filed 4-1-04; 8:45 am]

BILLING CODE 6560-50-P